DEPARTMENT OF TRANSPORTATION

Office of the Secretary

[OST Docket No. DOT-OST-2011-0022]

Notice of Submission of Proposed Information Collection to OMB Agency Request for Renewal of a Previously Approved Collection: On-Line Complaint/Comment Form for Service-Related Issues in Air Transportation

AGENCY: Office of the Secretary, Department of Transportation.

ACTION: Notice and request for comments.

SUMMARY: In compliance with the Paperwork Reduction Act of 1995 (44 U.S.C. 3501 et seq.), this notice announces that the request for reinstatement of an OMB Control Number for the Information Collection Request (ICR) abstracted below is being forwarded to the Office of Management and Budget (OMB) for review and comments. A Federal Register Notice with a 60-day comment period soliciting comments on the following information collection was published on October 31, 2017 (82 FR 50483).

DATES: Comments on this notice must be received by May 4, 2018.

ADDRESSES: Send comments regarding the burden estimate, including suggestions for reducing the burden, to the Office of Management and Budget, Attention: Desk Officer for the Office of the Secretary of Transportation, 725 17th Street NW, Washington, DC 20503. Comments may also be sent via email to OMB at the following address: oira_submissions@omb.eop.gov.

FOR FURTHER INFORMATION CONTACT: Daeleen Chesley, Office of the Secretary, Office of the Assistant General Counsel for Aviation Enforcement and Proceedings (C-70), Department of Transportation, 1200 New Jersey Ave. SE, Washington, DC 20590, 202-366-6792 (voice) or at Daeleen.Chesley@dot.gov.

SUPPLEMENTARY INFORMATION:

OMB Control Number: 2105-0568.

Title: Reinstatement of Aviation Consumer Protection Division Web Page On-Line Complaint/Comment Form.

Abstract: The Department of Transportation's (Department) Office of the Assistant General Counsel for Aviation Enforcement and Proceedings (Enforcement Office) has broad authority under 49 U.S.C., Subtitle VII, to investigate and enforce consumer protection and civil rights laws and regulations related to air transportation.

Among other things, the Enforcement Office, including its Aviation Consumer Protection Division (ACPD), is responsible for receiving and investigating service-related consumer complaints filed against airlines and other travel-related companies. Once received, the complaints are reviewed by the office to determine the extent to which these entities are in compliance with federal aviation consumer protection and civil rights laws and what, if any, action should be taken. Consumer complaints and comments are also used by the office to help improve airline consumer satisfaction. The information submitted via the on-line form can also serve as a basis for rulemaking, legislation and research.

The key reason for this request is to enable consumers to continue to file their complaints and comments to the Department using an on-line form, whether via their personal computer or on a mobile/electronic device. If the online complaint form is not available, the Department may receive fewer complaints, comments and inquiries from consumers. The lack of consumer input could inhibit the office's ability to effectively investigate both individual complaints against airlines and other air travel-related companies. It would also impact the Enforcement Office's ability to become aware of patterns and practices that may develop in violation of our rules. The information collection continues to further the objective of 49 U.S.C. 41712 to protect consumers from unfair or deceptive practices, the objective of § 41705 and § 40127 to ensure the civil rights of air travelers are respected, and the objective of § 41702 to ensure safe and adequate service in air transportation.

Filing a complaint or comment using a web-based form is voluntary and minimizes the burden on respondents. Based on CY17 information,¹, 17,844 of the 21,153 total cases (includes complaints and comments) received by the Enforcement Office were submitted using the electronic on-line form (84.3%). The vast majority of the submissions are complaints, in which 16,095 of the 18,188 total complaints received by ACPD were filed using the electronic web-based form (88.5%). At times, consumers may also choose to file a complaint with the Department using regular mail or by phone message. The type of information requested on the form includes complainant's name, address, phone number (including area code), email address, and name of the airline or company about which she/he is complaining, as well as the flight date and flight itinerary (where applicable) of a complainant's trip. On some occasions, a consumer may also use the form to give a description of a specific air-travel related problem or to ask for air-travel related information from the ACPD. The Department has limited its informational request to that necessary to meet its program and administrative monitoring and enforcement activities.

¹ The 60-Day FR notice reflected CY16 data. This 30-Day OMB FR notice has been updated to reflect CY17 data, which is the most current calendar year data available.

The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On October 31, 2017, OST published a 60-day notice in the Federal Register soliciting comment on the ICR for which the agency is seeking reinstatement from OMB. See 82 FR 209 at 50483. OST received no comments after issuing this notice. Accordingly, the Department announces that this information collection activity has been re-evaluated and certified under 5 CFR 1320.5(a) and forwarded to OMB for review and approval pursuant to 5 CFR 1320.12(c).

Before OMB decides whether to reinstate this proposed collection of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

Respondents: Consumers that Choose to File an On-Line Complaint/Comment with the Aviation Consumer Protection Division.

Estimated Number of Respondents: 17,844 (based on CY 2017 data).

Estimated Total Burden on Respondents: 4,461 hours (267,600 minutes). The estimate was calculated by multiplying the total number of complaints and comments filed using the on-line form in CY17 (17,844) by the estimated time needed to fill out the on-line form (15 minutes).

The information collection is available for inspection in regulations.gov, as noted in the Addresses section of his document.

Comments Are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. Chapter 35, as amended; and 49 CFR 1:48.

Issued in Washington, DC, on March 27, 2018.
Claire Barret,
DOT Chief Privacy & Information Governance Officer, Office of the Secretary.

[FR Doc. 2018-06858 Filed 4-3-18; 8:45 am]

BILLING CODE 4910-9X-P